DEPARTMENT OF TRANSPORTATION

National Highway Traffic Safety Administration

Notice of Receipt of Petition for Decision that Nonconforming 1999-2005 Ducati ST4s Motorcycles are Eligible for Importation

AGENCY: National Highway Traffic Safety Administration, DOT

ACTION: Notice of receipt of petition for decision that nonconforming 1999-2005 Ducati ST4s motorcycles are eligible for importation.

SUMMARY: This doclument announces receipt by the National Highway Traffic Safety Administration (NHTSA) of a petition for a decision that 1999-2005 Ducati ST4s motorcylces that were not originally manufactured to comply with all applicable Federal motor vehicle safety standards (FMVSS) are eligible for importation into the United States because (1) they are substantially similar to vehicles that were originally manufactured for importation into and sale in the United States and that were certified by their manufacturer as complying with the safety standards, and (2) they are capable of being readily altered to conform to the standards.

DATES: The closing date for comments on the petition is November 30, 2005.

ADDRESSES: Comments should refer to the docket number and notice number, and be submitted to: Docket Management, Room PL-401, 400 Seventh St., SW., Washington, DC 20590. [Docket hours are from 9 a.m. to 5 p.m.] Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

FOR FURTHER INFORMATION CONTACT: Coleman Sachs, Office of Vehicle Safety Compliance, NHTSA (202-366-3151).

SUPPLEMENTARY INFORMATION:

Background

Under 49 U.S.C. 30141(a)(1)(A), a motor vehicle that was not originally manufactured to conform to all applicable FMVSS shall be refused admission into the United States unless NHTSA has decided that the motor vehicle is substantially similar to a motor vehicle originally manufactured for importation into and sale in the United States, certified under 49 U.S.C. 30115, and of the same model year as the model of the motor vehicle to be compared, and is capable of being readily altered to conform to all applicable FMVSS.

Petitions for eligibility decisions may be submitted by either manufacturers or importers who have registered with NHTSA pursuant to 49 CFR part 592. As specified in 49 CFR 593.7, NHTSA publishes notice in the Federal Register of each petition that it receives, and affords interested persons an opportunity to comment on the petition. At the close of the comment period, NHTSA decides, on the basis of the petition and any comments that it has received, whether the vehicle is eligible for importation. The agency then publishes this decision in the Federal Register.

US SPECS of Aberdeen, Maryland (Registered Importer 03-321) has petitioned NHTSA to decide whether non-U.S. certified 1999-2005 Ducati ST4s motorcycles are eligible for importation into the United States. The vehicles that US SPECS believes are substantially similar are 1999-2005 Ducati ST4s motorcycles that were manufactured for importation into and sale in the United States and were certified by their manufacturer as conforming to all applicable FMVSS.

The petitioner claims that it carefully compared non-U.S. certified 1999-2005 Ducati ST4s motorcycles to their U.S. certified counterparts, and found the vehicles to be substantially similar with respect to compliance with most FMVSS.

US SPECS submitted information with its petition intended to demonstrate that non-U.S. certified 1999-2005 Ducati ST4s motorcycles, as originally manufactured, conform to many FMVSS in the same manner as their U.S. certified counterparts, or are capable of being readily altered to conform to those standards.

Specifically, the petitioner claims that non-U.S. certified 1999-2005 Ducati ST4s motorcycles are identical to their U.S. certified counterparts with respect to compliance with Standard Nos. 106 Brake Hoses, 116 Brake Fluid, 119 New Pneumatic Tires for Vehicles other than Passenger Cars, and 122 Motorcycle Brake Systems.

The petitioner further contends that the vehicles are capable of being readily altered to meet the following standards, in the manner indicated below:

Standard No. 108 Lamps, Reflective Devices and Associated Equipment: inspection of all vehicles and replacement of the following with U.S.-model components on vehicles not already so equipped: (a) Headlamps; (b) tail lamps: (c) front and rear turn signal lamps; and (d) front and rear side-mounted reflex reflectors.

Standard No. 111 Rearview Mirrors: installation of a U.S.-model passenger side rearview mirror, or inscription of the required warning statement on the face of that mirror.

Standard No. 120 Tire Selection and Rims for Vehicles other than Passenger Cars: (a) installation of a tire information placard; and (b) inspection of all vehicles to ensure compliance with rim marking requirements, and replacement of rims that are not properly marked with U.S.-model rims.

Standard No. 123 Motorcycle Controls and Displays: installation of a U.S.-model speedometer, or modification of the speedometer so that it reads in miles per hour.

Standard No. 205 Glazing Materials: inspection of all vehicles, and removal of noncompliant glazing or replacement of the glazing with U.S.-model components on vehicles that are not already so equipped.

Comments should refer to the docket number and be submitted to: Docket Management, Room PL-401, 400 Seventh Street, S.W., Washington, DC 20590. It is requested but not required that 10 copies be submitted.

All comments received before the close of business on the closing date indicated above will be considered, and will be available for examination in the docket at the above address both before and after that date. To the extent possible, comments filed after the closing date will also be considered. Notice of final action on the petition will be published in the Federal Register pursuant to the authority indicated below.

Authority: 49 U.S.C. 30141(a)(1)(A) and (b)(1); 49 CFR 593.8; delegations of authority at 49 CFR 1.50 and 501.8.

Claude H. Harris,
Director, Office of Vehicle Safety Compliance.

[FR Doc. 05-21581 Filed 10-28-05; 8:45 am]

BILLING CODE 4910-59-P